DEPARTMENT OF AGRICULTURE

Animal and Plant Health Inspection Service

9 CFR Part 149

[Docket No. APHIS-2020-0065]

RIN 0579-AE59

Elimination of the Voluntary Trichinae Certification Program

AGENCY: Animal and Plant Health Inspection Service, USDA.

ACTION: Proposed rule.

SUMMARY: We are proposing to eliminate the Animal and Plant Health Inspection Service (APHIS) Voluntary Trichinae Certification Program and remove the regulations associated with the program. This action would also notify the public that APHIS will no longer maintain any activity associated with the program, such as training for qualified accredited veterinarians, on-farm audits, or any other administrative process associated with program maintenance and support. We are proposing to eliminate the program because it generates little producer participation. This action would allow APHIS to direct APHIS resources to areas of greater need.

DATES: We will consider all comments that we receive on or before May 3, 2021.

ADDRESSES: You may submit comments by either of the following methods:

• Federal eRulemaking Portal: Go to www.regulations.gov. Enter APHIS-2020-0065 in the Search field. Select the Documents tab, then select the Comment button in the list of documents.

• Postal Mail/Commercial Delivery: Send your comment to Docket No. APHIS-2020-0065, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. María Celia Antognoli, Swine Health Senior Staff Officer, Aquaculture, Swine, Equine and Poultry Health Center, Strategy and Policy, VS, APHIS, 2150 Centre Ave., Bldg. B, Fort Collins, CO 80526-8117; (970) 494-7304; celia.antognoli@usda.gov.

SUPPLEMENTARY INFORMATION:

Background

Trichinella are parasitic nematodes (roundworms) that are found in many warm-blooded carnivores and omnivores, including swine. There are eight known species of Trichinella nematodes: Trichinella britovi, Trichinella murrelli, Trichinella nativa, Trichinella nelsoni, Trichinella papuae, Trichinella pseudospiralis, Trichinella spiralis, and Trichinella zimbabwensis. Trichinae is a generic term that refers to all species of Trichinella.

In a final rule ¹ published in the Federal Register on October 10, 2008 (73 FR 60463-60488; Docket No. APHIS-2006-0089), we established regulations for the Voluntary Trichinae Certification Program by adding 9 CFR part 149. These regulations provide for the certification of pork production sites that follow certain prescribed management practices that reduce, eliminate, or avoid the risk of exposure of swine to Trichinella spp. Participation in the program is voluntary. As stated in § 149.2, a producer's initial enrollment and continued participation in the Trichinae Certification Program requires that the producer adhere to all of the good production practices set out in the regulations, as confirmed by periodic site audits, and comply with other recordkeeping and program requirements provided in part 149.

¹ To view the final rule and supporting documents, go to http://www.regulations.gov/#!docketDetail;D=APHIS-2006-0089.

Producer participation in this voluntary program has decreased since the program began. Only two producers re-enrolled in the past 3 years. The lack of producer interest and involvement has become problematic for a number of reasons. Maintaining the program places demands on limited Animal and Plant Health Inspection Service (APHIS) funding and human resources that could be better directed elsewhere. In addition, the existence of a program that producers have little interest in has had trade implications. Trading partners have questioned our ability to certify freedom of trichinae in exported products, given that the vast majority of the products are not produced under the auspices of the Trichinae Certification Program.

We are therefore proposing to eliminate the program by removing part 149 from the regulations. Eliminating this program should benefit the swine industry by reducing possible confusion about the trichinae-free status of exported products. APHIS would also no longer incur the costs associated with program administration and payments to auditors.

Executive Order 12866 and Regulatory Flexibility Act

This proposed rule has been determined to be not significant for the purposes of Executive Order 12866 and, therefore, has not been reviewed by the Office of Management and Budget.

In accordance with the Regulatory Flexibility Act, we have analyzed the potential economic effects of this action on small entities. The analysis is summarized below. Copies of the full analysis are available by contacting the person listed under FOR FURTHER INFORMATION CONTACT or on the Regulations.gov website (see ADDRESSES above for instructions for accessing Regulations.gov).

APHIS is proposing to eliminate the Voluntary Trichinae Certification Program and remove its associated regulations from title 9 of the Code of Federal Regulations.

Producer participation in the Voluntary Trichinae Certification program has decreased significantly since this voluntary program began in 2007. Only two producers with 23 audit sites re-enrolled in the past 3 years. Continuation of the voluntary program, given the lack of producer participation, is difficult to justify. Furthermore, a voluntary certification program that does not attract producer participation could negatively affect APHIS' and the pork industry's credibility, especially during trade negotiations. Minimal program participation can lead trading partners to question APHIS' ability to certify exported products as trichinae-free, even though certification is not a requirement for U.S. pork exportation.

Preserving APHIS' credibility is crucial in supporting the U.S. pork industry and its exports, which have increased substantially in recent years. Since 2007, U.S. pork exports have more than doubled in value (110 percent increase) and in quantity (109 percent increase).

The Small Business Administration (SBA) small business size standard for hog and pig farming is annual revenue of not more than $1 million. According to the 2017 Agricultural Census, 64,871 hog and pig farms sold over 235 million hogs and pigs with total sales of $26.3 billion in 2017. Average annual sales per farm was 3,267 head valued at $404,907, well below the SBA small-entity standard.

When the census data are divided into two categories—the largest producers, with 5,000 or more hogs and pigs sold, and the remaining farms—the prevalence of small-scale producers becomes clear. Farms with fewer than 5,000 hogs and pigs sold accounted for 57,084 farms (88 percent of the total). However, the number and value of hogs and pigs sold by these farms, 15,157,702 head valued at $2.4 billion, represent only 6 percent and 9 percent, respectively, of total sales. The average number and value of hogs and pigs sold per farm in 2017 by these smaller farms was 266 head valued at $42,078. Clearly, hog and pig farms are predominantly small.

Because the Voluntary Trichinae Certification Program did not progress beyond the pilot stage, the participating producers have not borne program costs.

Under these circumstances, the Administrator of the Animal and Plant Health Inspection Service has determined that this action would not have a significant economic impact on a substantial number of small entities.

Executive Order 12372

This program/activity is listed in the Catalog of Federal Domestic Assistance under No. 10.025 and is subject to Executive Order 12372, which requires intergovernmental consultation with State and local officials. (See 2 CFR chapter IV.)

Executive Order 12988

This proposed rule has been reviewed under Executive Order 12988, Civil Justice Reform. If this proposed rule is adopted: (1) State and local laws and regulations will not be preempted; (2) no retroactive effect will be given to this rule; and (3) administrative proceedings will not be required before parties may file suit in court challenging this rule.

Paperwork Reduction Act

This proposed rule contains no new information collection or recordkeeping requirements under the Paperwork Reduction Act of 1995 (44 U.S.C. 3501 et seq.) and will reduce those currently approved by the Office of Management and Budget under control number 0579-0323.

List of Subjects in 9 CFR Part 149

Animal diseases, Laboratories, Meat and meat products, Meat inspection, Reporting and recordkeeping requirements, Swine.

Accordingly, for the reasons stated in the preamble, and under the authority of 7 U.S.C. 8301 et seq., the Animal and Plant Health Inspection Service is proposing to amend 9 CFR chapter I by removing part 149.

Done in Washington, DC, this 18th day of February, 2021.
Michael Watson,
Acting Administrator, Animal and Plant Health Inspection Service.

[FR Doc. 2021-03772 Filed 3-2-21; 8:45 am]

BILLING CODE 3410-34-P